GENERAL ACCOUNTING OFFICE

[Document Nos. JFMIP-SR-01-2]

Joint Financial Management Improvement Program (JFMIP)—Federal Financial Management System Requirements (FFMSR)

June 11, 2001.

AGENCY: Joint Financial Management Improvement Program (JFMIP).

ACTION: Notice of document availability.

SUMMARY: The JFMIP is seeking public comment on exposure draft titled JFMIP Core Financial System Requirements “JFMIP-SR-01-02”, dated June 11, 2001. The exposure draft is being issued to update the February 1999 “ Core Financial System Requirements.” The exposure draft incorporates new JFMIP requirements for Core Financial Systems. They are designed to provide financial managers with governmentwide mandatory requirements for financial systems in order to process and record financial events effectively and efficiently, and to provide complete, timely, reliable, and consistent information for decision-makers and the public.

DATES: Comments are due August 20, 2001.

ADDRESSES: Copies of the Core Financial System Requirements exposure draft have been mailed to Agency Senior Financial Officials and are available on the JFMIP website http://www.jfmip.gov. Comments should be addressed to JFMIP, 1990 K Street NW, Suite 430, Washington, DC 20006.

FOR FURTHER INFORMATION CONTACT: Stephen R. Balsam, (202) 219-0531, stephen.balsam@gsa.gov, regarding the Core Financial System Requirements.

SUPPLEMENTAL INFORMATION: The Federal Financial Management Improvement Act of 1996, (FFMIA), mandated that agencies implement and maintain systems that comply substantially with Federal financial management systems requirements, applicable Federal accounting standards, and the U.S. Government Standard General Ledger at the transaction level. The FFMIA statute codified the JFMIP financial systems requirements documents as a key benchmark that agency systems must meet in order to be substantially in compliance with systems requirements provisions under FFMIA. To support the requirements outlined in FFMIA, we are updating requirements documents that are obsolete and publishing additional requirements documents.

The Core Financial System Requirements document establishes standard requirements for the backbone modules of an agency's integrated financial management system. The major functions supported by a Core Financial System are: Core Financial System Management, General Ledger Management, Funds Management, Payment Management, Receipt Management, Cost Management, Technical and Reporting. These eight functions provide common processing routines, support common data for critical financial management functions affecting the entire agency, and maintain the required financial data integrity control over financial transactions, resource balances and other financial management systems.

This update reflects the most recent changes in laws and regulations, such as FACTS II, and clarifies previous requirements. JFMIP's Knowledgebase website can be used to obtain an electronic copy of the changes that have been made to the Core Financial System Requirements document. The Knowledgebase can be accessed through the JFMIP website http://www.jfmip.gov. The exposure draft contains only mandatory requirements on which the vendor software certification test will be based and value-added requirements for optional functionality.

Comments received will be reviewed and the exposure draft will be revised as necessary. Publication of the final requirements will be mailed to agency senior financial officials and will be available on the JFMIP website.

Karen Cleary Alderman,
Executive Director, Joint Financial Management Improvement Program.

[FR Doc. 01-15256 Filed 6-15-01; 8:45 am]

BILLING CODE 1610-02-U